DEPARTMENT OF AGRICULTURE

Animal and Plant Health Inspection Service

9 CFR Parts 55 and 81

[Docket No. 00-108-6]

RIN 0579-AB35

Chronic Wasting Disease Herd Certification Program and Interstate Movement of Farmed or Captive Deer, Elk, and Moose; Petitions and Request for Comments

AGENCY: Animal and Plant Health Inspection Service, USDA.

ACTION: Notice of receipt of petitions and request for comments; extension of comment period.

SUMMARY: We are extending the comment period for our notice that announced the receipt of three petitions requesting that we delay implementation of, and reconsider provisions in, a recent final rule establishing a herd certification program and interstate movement restrictions for cervids to control the spread of chronic wasting disease. This action will allow interested persons additional time to prepare and submit comments.

DATES: We will consider all comments that we receive on or before January 3, 2007.

FOR FURTHER INFORMATION CONTACT: Dr. Dean E. Goeldner, Senior Staff Veterinarian, Ruminant Health Programs, VS, APHIS, 4700 River Road Unit 43, Riverdale, MD 20737-1231; (301) 734-4916. Copies of the petitions are available at the Federal eRulemaking Portal, http://www.regulations.gov, as described under ADDRESSES below.

ADDRESSES: You may submit comments by either of the following methods:

• Federal eRulemaking Portal: Go to http://www.regulations.gov, select “Animal and Plant Health Inspection Service” from the agency drop-down menu, then click “Submit” In the Docket ID column, select APHIS-2006-0118 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. 00-108-5, Regulatory Analysis and Development, PPD, APHIS, Station 3A-03.8, 4700 River Road Unit 118, Riverdale, MD 20737-1238. Please state that your comment refers to Docket No. 00-108-5.

• Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

SUPPLEMENTARY INFORMATION: On November 3, 2006, we published in the Federal Register (71 FR 64650-64651, Docket No. 00-108-5) a document in which we announced the receipt of, and requested comments on, three petitions from the Association of Fish and Wildlife Agencies, the National Assembly of State Animal Health Officials, and the United States Animal Health Association. The petitions requested that APHIS delay the effective date of a recent final rule and reconsider several requirements of the rule. The final rule, published in the Federal Register on July 21, 2006 (71 FR 41682-41707, Docket No. 00-108-3), establishes a herd certification program and interstate movement regulations for farmed or captive cervids to help eliminate chronic wasting disease in the United States. We published a notice in the Federal Register on September 8, 2006 (71 FR 52983, Docket No. 00-108-4), delaying the effective date of the final rule until further notice.

Comments on the petitions were required to be received on or before December 4, 2006. We are extending the comment period on Docket No. 00-108-5 until January 3, 2007, an additional 30 days from the original close of the comment period. This action will allow interested persons additional time to prepare and submit comments.

Authority: 7 U.S.C. 8301-8317; 7 CFR 2.22, 2.80, and 371.4.

Done in Washington, DC, this 15th day of November 2006.
Kevin Shea,
Acting Administrator, Animal and Plant Health Inspection Service.

[FR Doc. E6-19662 Filed 11-20-06; 8:45 am]

BILLING CODE 3410-34-P